DEPARTMENT OF ENERGY

Federal Energy Regulatory Commission

Combined Notice of Filings

Take notice that the commission received the following accounting Request filings:

Filings Instituting Proceedings

Docket Numbers: AC25-96-000.

Applicants: Cheyenne Pipeline LLC.

Description: Cheyenne Pipeline LLC submits request for approval of proposed journal entries re Plains All American Pipeline, L.P. acquisition of Cheyenne Pipeline LLC on 2/28/2025.

Filed Date: 5/14/25.

Accession Number: 20250514-5179.

Comment Date: 5 p.m. ET 6/4/25.

Take notice that the Commission has received the following Natural Gas Pipeline Rate and Refund Report filings:

Docket Numbers: PR25-51-000.

Applicants: Arkansas Oklahoma Gas Corporation.

Description: Tariff Amendment: Notice of Cancellation to be effective 5/15/2025.

Filed Date: 5/14/25.

Accession Number: 20250514-5131.

Comment Date: 5 p.m. ET 6/4/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR25-42-001.

Applicants: Rocky Mountain Natural Gas LLC.

Description: § 284.123 Rate Filing: RMNG SOC Amending RAM Charge to be effective 1/1/2025.

Filed Date: 5/14/25.

Accession Number: 20250514-5089.

Comment Date: 5 p.m. ET 5/28/25.

Docket Numbers: RP24-1106-004.

Applicants: Adelphia Gateway, LLC.

Description: Compliance filing: Adelphia Gateway RP24-1106 45-Day Update Filing to be effective N/A.

Filed Date: 5/15/25.

Accession Number: 20250515-5082.

Comment Date: 5 p.m. ET 5/27/25.

Docket Numbers: RP25-537-001.

Applicants: Spire MoGas Pipeline LLC.

Description: Compliance filing: Spire MoGas Amended NAESB 4.0 Compliance Filing to be effective 8/1/2025.

Filed Date: 5/14/25.

Accession Number: 20250514-5123.

Comment Date: 5 p.m. ET 5/27/25.

Any person desiring to protest in any the above proceedings must file in accordance with Rule 211 of the Commission's Regulations (18 CFR 385.211) on or before 5:00 p.m. Eastern Time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 15, 2025.
Carlos D. Clay,
Deputy Secretary.

[FR Doc. 2025-09099 Filed 5-20-25; 8:45 am]

BILLING CODE 6717-01-P